DEPARTMENT OF STATE

[Public Notice 7852]

60-Day Notice of Proposed Information Collection: DS-5506, Local U.S. Citizen Skills/Resources Survey

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Local U.S. Citizen Skills/Resources Survey.

• OMB Control Number: OMB No. 1405-0188.

• Type of Request: Revision.

• Originating Office: Bureau of Consular Affairs, Overseas Citizens Services (CA/OCS).

• Form Number: DS-5506.

• Respondents: United States Citizens.

• Estimated Number of Respondents: 2,400.

• Estimated Number of Responses: 2,400.

• Average Hours per Response: 15 minutes.

• Total Estimated Burden: 600 hours.

• Frequency: On Occasion.

• Obligation to Respond: Voluntary.

DATE(S): The Department will accept comments from the public up to 60 days from April 23, 2012.

ADDRESSES: You may submit comments by any of the following methods:

• Email: ASKPRI@state.gov.

• Mail (paper, disk, or CD-ROM submissions): U.S. Department of State, CA/OCS/PRI, SA-29, 4th Floor, Washington, DC 20520.

• Fax: 202-736-9111.

• Delivery or Courier: U.S. Department of State, CA/OCS/PRI, 2100 Pennsylvania Avenue, 4th Floor, Washington, DC 20037.

You must include the DS form number (if applicable), information collection title, and OMB control number in any correspondence.

FOR FURTHER INFORMATION CONTACT: Direct requests for additional information regarding the collection listed in this notice, including requests for copies of the proposed information collection and supporting documents, to Derek A. Rivers, Bureau of Consular Affairs, Overseas Citizens Services (CA/OCS/PRI), U.S. Department of State, SA-29, 4th Floor, Washington, DC 20520 or at ASKPRI@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

The Local U.S. Citizen Skills/Resources Survey is a systematic method of gathering information about skills and resources from U.S. citizens that will assist in improving the well-being of other U.S. citizens affected or potentially affected by a crisis.

Methodology

This information collection can be completed by the respondent electronically or manually. The information collection will be collected on-site, by mail, fax and email.

Dated: April 11, 2012.
Michelle Bernier-Toth,
Managing Director, Bureau of Consular Affairs, Department of State.

[FR Doc. 2012-9750 Filed 4-20-12; 8:45 am]

BILLING CODE 4710-06-P